DEPARTMENT OF TRANSPORTATION

Federal Aviation Administration

14 CFR Part 39

[Docket No. FAA-2010-1101; Directorate Identifier 2009-CE-013-AD; Amendment 39-16690; AD 2011-10-09]

RIN 2120-AA64

Airworthiness Directives; Cessna Aircraft Company Models 150, 152, 170, 172, 175, 177, 180, 182, 185, 188, 190, 195, 206, 207, 210, T303, 336, and 337 Airplanes

AGENCY: Federal Aviation Administration (FAA), DOT.

ACTION: Final rule.

SUMMARY: We are superseding an existing airworthiness directive (AD) for Cessna Aircraft Company (Cessna) 150, 152, 170, 172, 175, 177, 180, 182, 185, 188, 190, 195, 206, 207, 210, T303, 336, and 337 series airplanes. That AD currently requires repetitive inspections and replacement of parts, if necessary, of the seat rail and seat rail holes; seat pin engagement; seat rollers, washers, and axle bolts or bushings; wall thickness of roller housing and the tang; and lock pin springs. This new AD requires retaining all of the actions from the previous AD and adding steps to the inspection procedures in the previous AD. This AD was prompted by added steps to the inspection procedures, added revised figures, and clarification of some of the existing steps. We are issuing this AD to prevent seat slippage or the seat roller housing from departing the seat rail, which may consequently cause the pilot/copilot to be unable to reach all the controls. This failure could lead to the pilot/copilot losing control of the airplane.

DATES: This AD is effective June 17, 2011.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Gary Park, Aerospace Engineer, ACE-118W, Wichita Aircraft Certification Office (ACO), 1801 Airport Road, Room 100, Wichita, Kansas 67209; telephone: (316) 946-4123; fax: (316) 946-4107; e-mail: gary.park@faa.gov.

SUPPLEMENTARY INFORMATION:

Discussion

We issued a notice of proposed rulemaking (NPRM) to amend 14 CFR part 39 to supersede airworthiness directive (AD) 87-20-03 R2, Amendment 39-6669 (55 FR 36264, September 5, 1990; published as Docket No. 86-CE-71-AD, Amdt. 39-6669). That AD applies to the specified products. AD 87-20-03 R2 requires repetitive inspections and replacement of parts, if necessary, of the seat rail and seat rail holes; seat pin engagement; seat rollers, washers, and axle bolts or bushings; wall thickness of roller housing and the tang; and lock pin springs. The NPRM published in the Federal Register on November 8, 2010 (75 FR 68543). That NPRM proposed to retain all of the actions from the previous AD and add steps to the inspection procedures in the previous AD.

The additional steps involve inspections of the tang thickness and length on the seat roller housing. We also provided improved graphics for inspecting seat track hole wear and for inspecting proper seat lock pin engagement depth. We itemized the steps, in sequence, to provide clearer guidance for the inspector to do the inspections.

Comments

We gave the public the opportunity to participate in developing this AD. The following presents the comments received on the proposal and the FAA's response to each comment.

Request Change to Compliance Time

D.A., Ken Anderson, Don Barley, Timothy J. Berg, Joseph Carter, Gary W. Cleveland, Clifford Coy, Al Dyer, John M. Efinger, Greg Felton, Berry Gablin, Howard Greenberg, Steve James, Richard Koril, Michael Minton, Dustin J. Radford, Marc Stancy, Charles L. Trunck, and Walter Wasowski requested we change the inspection compliance time to annual inspections. They think that 100-hour time-in-service inspections are an excessive burden on manpower and an added expense with little benefit in safety. They also think the frequent inspections would be difficult to monitor.

We disagree with this comment. The unsafe condition of excessive wear results from usage, not calendar time. The more an airplane is used, the more likely wear will develop, causing an unsafe condition. Parts cost will not be incurred unless the inspection results require parts replacement. FAA regulations require posting compliance to ADs in the aircraft logbook. The maintainer should record compliance with this AD, which includes the 100-hour inspections, in the aircraft logbook.

We have not changed this final rule AD action based on this comment.

Request Change to Applicability Based on Secondary Seat Stops

Joseph Carter, Greg Felton, Donald L. Griffith, and Richard M. Warner requested we change the applicability based on the installation of inertial reel secondary seat stops. They think that if the primary seat lock fails and the seat slips, the secondary seat stops provide additional safety.

We partially agree with this comment. We agree that the secondary seat stop provides additional safety for seat slippage. However, we disagree that secondary seat stops provide adequate safety for the unsafe condition associated with this AD action. The secondary seat stops may be installed only on one side of the airplane, so the pilot could occupy a seat without a secondary seat stop. Also, secondary seat stops will not prevent the seat from lifting off the seat track.

We have not changed this final rule AD action based on this comment.

Request To Remove Models 150, 152, and 188 From Applicability

Mark Stancy requested we remove Cessna Models 150, 152, and 188 from the airplane Applicability. He thinks the seat travel for those models is too limited to justify this AD even if the locking pin were to slip.

We disagree with this comment. Even a limited seat travel could affect short pilots' ability to reach the controls if the seat slips backwards due to failure of the seat system. This AD action not only requires inspections to prevent seat slippage but also requires inspections to prevent the seat from lifting off the seat track.

We have not changed this final rule AD action based on this comment.

Request Withdrawal of Proposed AD Action

David Abler, Brian A. Andrus, James Barbee, Timothy J. Berg, Al Dyer, John M. Efinger, Berry Gamblin, Donald L. Giffith, Michael Minton, Robert J. Pasch, Dustin J. Radford, Charles L. Trunck, and Walter Wasowski requested we withdraw the proposed AD action because they think it adds no additional safety than AD 87-20-03 R2.

We disagree with this comment. This AD action provides additional measurements in the inspections, more clarity in the descriptions of the required inspections, and provides improved graphics. Inadvertent seat movement continues to be reported. Also, we received a report of a seat separating from the seat track due to wear of the seat roller housing tangs.

We have not changed this final rule AD action based on this comment.

Request Additional Inspection With Diagrams

One commenter requested we add an inspection of the seat stop with diagrams showing potential damage because if the integrity of the seat stop is retained, seat slippage will not occur. The commenter also requested we not allow repair to the seat roller housing.

We partially agree with this comment. We agree the seat stop should prevent seat slippage; however, other failure modes can cause seat slippage even with a functional seat stop. Providing diagrams of possible damage to the seat stop area will not sufficiently eliminate the safety issue. Service history has shown that wear and damage to the seat installation components must be addressed. This AD action provides clarification to the inspections for those components.

We have not changed this final rule AD action based on this comment.

Request an Additional Measurement to the Inspection

Dave McFarlane requested we add a maximum allowable incremental 0.07-inch radius dimension to figure 1 at the outside diameter dimensions for clarification.

We disagree with this comment. The measurement dimensions in figure 1 adequately address the measurements necessary for this AD. Additional measurements will not provide any additional benefit.

We have not changed this final rule AD action based on this comment.

Request Changing Compliance Based on Frequency of Seat Movement

Joseph Carter requested we change the compliance time for the inspection for seats that are moved infrequently because they would not experience the same amount of wear on the seat components.

We disagree with this comment. Inspectors would not be able to determine the frequency seat movement.

We have not changed this final rule AD action based on this comment.

Request Change to the Measurement of the Tangs

Brian A. Andrus, Jim Currie, and Jerry Unruh requested we change the tang measurement to the outside of the seat roller housing and change the description of the tang measurement. This change would make it easier for the inspector to take the measurement and to better understand what is being measured.

We agree with this comment. We agree that measuring the tang length inside of the roller housing is difficult because of the presence of the rollers inside of the roller housing.

We have changed the callouts in figure 4 to measure the tang length from outside of the roller housing instead of from inside of the roller housing. We have also changed the description of the tang measurement in figure 4 to more accurately describe the measurement.

Request Detailed Description of Changes From AD 87-20-03 R2

Robert J. Pasch requested we better describe the changes or added steps to the inspections from AD 87-20-03 R2 so the owner/operator can better understand the requirements of this new AD action.

We agree with this comment. We retained all of the actions from the previous AD and added steps to the inspection. This AD action must be complied with in its entirety, not just the added steps. This AD action includes better descriptions and graphics for the mechanic to follow when complying with this AD. We have added language to the Discussion section describing in more detail the changes we made in this superseding AD action.

Request Different Requirements for New Seat Rail Installations

Howard Greenberg requested different requirements for new seat rail installations.

We disagree with this comment. Documentation positively identifying that all seat assemblies and associated parts were replaced would be difficult to obtain. If documentation positively identifying replacement of the seat assemblies and associated parts can be found, the FAA will consider any applications we receive for an alternative method of compliance to extend the compliance time for the initial inspection.

We have not changed this final rule AD action based on this comments.

Request Training on Proper Seat Operation Instead of AD

David Abler, Ken Anderson, and Timothy J. Berg requested we provide a means to educate the pilots on proper operation of the seats rather than take AD action.

We disagree with this comment. Wear and damage can occur, which may not be visibly recognizable by the pilot, and may cause the seat to slip even after proper engagement of the locking pin. In addition, many sources exist to educate those involved about this unsafe condition, including Advisory Circular 43-16A, Aviation Maintenance Alerts, found on the Internet at http://rgl.faa.gov/Regulatory_and_Guidance_Library/rgAdvisoryCircular.nsf/Frameset?OpenPage; Special Aviation Information Bulletin, SAIB CE-09-10, Availability of Secondary Seat Stops for Pilot and Copilot Seats found on the Internet at http://rgl.faa.gov/Regulatory_and_Guidance_Library/rgSAIB.nsf/Frameset?OpenPage; Safety Alerts for Operators, SAFO 10016, Missing or Improper Seat Stops in Cessna Models found on the Internet at http://www.faa.gov/other_visit/aviation_industry/airline_operators/airline_safety/safo/all_safos/; and other related articles in Cessna Pilots Association Magazine. In spite of the sources of information regarding the necessity for proper maintenance and proper operations of the seats, inadvertent seat movement continues to be a safety issue.

We have not changed this final rule AD action based on this comment.

Request Requiring Reinspection After Repair or Replacement of Parts

An anonymous commenter requested we require verifying the seat stop pin engagement still meets the 0.150 inch criteria after replacement of parts as a result of any of the required inspections.

We disagree with this comment. The intent of this inspection is to detect wear or deformation. Any part used as a replacement part must be serviceable and not show signs of wear or deformation. Also, this inspection is a repetitive inspection at intervals not to exceed every 100 hours time-in-service.

We have not changed the final rule AD action based on this comment.

Agreement With AD Action

John M. Conti agrees with this AD action. He states the added procedures and criteria are good and must be done during annual inspections so the extra detail is a small price to pay that will further reduce this risk.

We have not changed this final rule AD action based on this comment.

Conclusion

We reviewed the relevant data, considered the comments received, and determined that air safety and the public interest require adopting the AD with the change described previously to change the tang length measurement location to outside of the seat roller housing and minor editorial changes. We have determined that these minor changes:

• Are consistent with the intent that was proposed in the NPRM for correcting the unsafe condition; and

• Do not add any additional burden upon the public than was already proposed in the NPRM.

We also determined that these changes will not increase the economic burden on any operator or increase the scope of the AD.

Costs of Compliance

We estimate that this AD will affect 36,000 airplanes in the U.S. registry.

The estimated total cost on U.S. operators includes the cumulative costs associated with AD 87-20-03 R2. The required actions of this AD are the same as in AD 87-20-03 R2 with the exception of some added steps to the inspection, which do not increase work-hours. The increased estimated cost of this AD is due to increased labor cost and parts cost from 1987 when AD 87-20-03 R2 was issued.

We estimate the following costs to comply with this AD:

Estimated Costs
Action | Labor cost | Parts cost | Cost per product | Cost on U.S. operators
Inspections of the seat roller housings and seat rail | 1 work-hour × $85 per hour = $85 | Not applicable | $85 | $3,060,000

We estimate the following costs to do any necessary replacements that would be required based on the results of the inspections. We have no way of determining the number of aircraft that might need these replacements:

On-Condition Costs
Action | Labor cost | Parts cost | Cost per product
Replace seat rail | 2 work-hours × $85 per hour = $170 per rail | $225 per rail | $395
Replace seat roller kit | 2 work-hours per seat (less per leg) × $85 per hour = $170 | $110 | 280
Replace miscellaneous parts, such as seat rollers, washers, bushings, bolts, lock pin springs, etc | 1 work-hour per seat × $85 per hour = $85 | $15 | 100

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.″ Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action″ under Executive Order 12866,

(2) Is not a “significant rule″ under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 87-20-03 R2, Amendment 39-39-6669 (55 FR 36264, September 5, 1990; published as Docket No. 86-CE-71-AD, Amdt. 39-6669), and adding the following new AD:

2011-10-09 Cessna Aircraft Company: Amendment 39-16690; Docket No. FAA-2010-1101; Directorate Identifier 2009-CE-013-AD.

Effective Date

(a) This airworthiness directive (AD) is effective June 17, 2011.

Affected ADs

(b) This AD supersedes AD 87-20-03 R2, Amendment 39-6669.

Applicability

(c) This AD applies to all serial numbers of the following Cessna Aircraft Company (Cessna) Models that are certificated in any category:

Models
(1) 150A, 150B, 150C, 150D, 150E, 150F, 150G, 150H, 150J, 150K, 150L, 150M, A150K, A150L, A150M, F150F, F150G, F150H, F150J, F150K, F150L, F150M, FA150K, FA150L, FA150M, FRA150L, and FRA150M.
(2) 152, A152, F152, and FA152.
(3) 170, 170A, and 170B.
(4) 172, 172A, 172B, 172C, 172D, 172E, 172F (USAF T-41A), 172G, 172H (USAF T-41A), 172I, 172K, 172L, 172M, 172N, 172P, 172Q, 172RG, F172D, F172E, F172F, F172G, F172H, F172K, F172L, F172M, F172N, F172P, FR172E, FR172F, FR172G, FR172H, FR172J, FR172K, P172D, R172E (USAF T-41B) (USAF T-41C and D), R172F (USAF T-41D), R172G (USAF T-41C or D), R172H (USAF T-41D), R172J, and R172K.
(5) 175, 175A, 175B, and 175C.
(6) 177, 177A, 177B, 177RG, and F177RG.
(7) 180, 180A, 180B, 180C, 180D, 180E, 180F, 180G, 180H, 180J, and 180K.
(8) 182, 182A, 182B, 182C, 182D, 182E, 182F, 182G, 182H, 182J, 182K, 182L, 182M, 182N, 182P, 182Q, 182R, F182P, F182Q, FR182, R182, T182, and TR182.
(9) 185, 185A, 185B, 185C, 185D, 185E, A185E, and A185F.
(10) 188, 188A, A188, A188A, 188B, A188B, and T188C.
(11) 190.
(12) 195, 195A, and 195B.
(13) 206, P206, P206A, P206B, P206C, P206D, P206E, TP206A, TP206B, TP206C, TP206D, TP206E, TU206A, TU206B, TU206C, TU206D, TU206E, TU206F, TU206G, U206, U206A, U206B, U206C, U206D, U206E, U206F, and U206G.
(14) 207, 207A, T207, and T207A.
(15) 210, 210-5 (205), 210-5A (205A), 210A, 210B, 210C, 210D, 210E, 210F, 210G, 210H, 210J, 210K, 210L, 210M, 210N, 210R, P210N, P210R, T210F, T210G, T210H, T210J, T210K, T210L, T210M, T210N, and T210R.
(16) T303.
(17) 336.
(18) 337, 337A, 337B, 337C, 337D, 337E, 337F, 337G, 337H, F337E, F337F, F337G, F337H, FT337E, FT337F, FT337GP, FT337HP, M337B, P337H, T337B, T337C, T337D, T337E, T337F, T337G, T337H, and T337H-SP.

Subject

(d) Joint Aircraft System Component (JASC)/Air Transport Association (ATA) of America Code 51; Standard Practices Structures.

Unsafe Condition

(e) This AD was prompted by reports of seats slipping on the rails where the primary latch pin for the pilot/copilot seat is not properly engaged in the seat rail/track and reports of the seat roller housing departing the seat rail. We are issuing this AD to prevent seat slippage or the seat roller housing from departing the seat rail, which may consequently cause the pilot/copilot to be unable to reach all the controls. This failure could lead to the pilot/copilot losing control of the airplane.

Compliance

(f) Comply with this AD within the compliance times specified, unless already done.

Actions

(g) For all airplanes, to address the unsafe condition described in paragraph (e) of this AD, you must do the following actions on the seat rails; seat rollers, washers, and axle bolts or bushings; seat roller housings and the tangs; and lock pin springs, unless already done, initially within the next 100 hours time-in-service (TIS) after the last inspection done following AD 87-20-03 R2 or within the next 12 calendar months after the effective date of this AD, whichever occurs first. Repetitively thereafter do the actions at intervals not to exceed every 100 hours TIS or every 12 months, whichever occurs first:

(1) Visually inspect the pilot and copilot seat rails for dirt and debris that may prevent engagement of the seat locking pins. Before further flight, after any inspection where dirt or debris is found, remove the dirt or debris found.

(2) Remove the seat from the seat rail.

(i) Remove the seat stops.

(ii) Disengage seat belt/shoulder harness from the seat, if necessary.

(iii) Raise vertical adjusting seats to maximum height.

(iv) Hold seat latches disengaged and slide the seat forward and aft to disengage rollers.

(v) Lift the seat out of the airplane.

(3) Inspect the diameter of each seat locking pin engagement hole in the pilot and copilot seat rails for excessive wear. Due to wear on the rail surface at the hole opening, we allow this measurement 0.020 of an inch below the surface of the rail. You must take this measurement somewhere between the surface of the rail or no more than 0.020 of an inch below the surface of the rail.

(i) If the diameter of any of the holes is 0.42 of an inch or more (see figure 1), before further flight, replace the rail.

BILLING CODE 4910-13-C

(ii) Rail replacement does not terminate the repetitive actions required in paragraph (g) of this AD.

(4) Visually inspect the seat rollers for flat spots and inspect the rollers and washers for binding. Assure all rollers and washers, which are meant to rotate, turn freely on their axles (or bushings if installed).

(i) Before further flight, replace any rollers with flat spots and any worn washers.

(ii) Before further flight, remove and clean the parts if there is any binding between the bores of the rollers, washers, or axles.

(iii) Do not lubricate the rollers, washers, or axles because the lubricant will attract dust and other particles that may cause binding.

(5) Inspect the thickness of the tang (see figure 2 and figure 3). Due to wear of the tang chafing against the seat rail, measure the tang thickness where the tang inner edges contact the seat rail.

(i) If the tang thickness measures less than 0.05 of an inch, before further flight replace the roller housing.

(ii) Replacement of the roller housing does not terminate the repetitive actions required in paragraph (g) of this AD.

(6) Due to wear or deformation of the tangs, inspect the tang length from the inner edge of the tang to the outer edge (the bend area) of the roller housing (see figure 4).

(i) The minimum measurement allowed for the remaining tang length is 0.230 inches remaining on either of the tangs, from the inner edge of the tang to the outer edge (the bend area) of the roller housing. If the measurement is less than 0.230 inches on either of the tangs, before further flight, replace the roller housing.

(ii) Replacement of the roller housing does not terminate the repetitive actions required in paragraph (g) of this AD.

(7) Inspect the springs that keep the lock pins in position in the rail holes for positive engagement action. Before further flight, replace any spring that does not provide positive engagement.

(8) Visually inspect the seat rails for cracks.

(i) If there are seat rail cracks that exceed the crack criteria in figure 5, before further flight, replace the seat rail.

(ii) Replacement of the seat rail does not terminate the repetitive actions required in paragraph (g) of this AD.

(9) Reinstall the seat on the seat rail.

(i) Lift the seat into the airplane and place on the seat rail.

(ii) Hold seat latches disengaged and slide the seat aft and then forward to re-engage rollers.

(iii) Lower vertical adjusting seats to a comfortable height.

(iv) Reattach seat belt/shoulder harness to the seat, if previously attached to the seat.

(v) Reinstall the seat stops.

(10) Lift up the forward edge of each seat to eliminate vertical play of the seat locking pin in the engagement hole, and from this position, inspect the depth of engagement of each seat locking pin (see figure 2). If the rail is worn, this depth is measured from the worn surface, not the manufactured surface.

(i) If engagement of any of the seat locking pins measures less than 0.15 of an inch, before further flight, replace or repair any seat components necessary to achieve a seat pin engagement of a minimum of 0.15 of an inch.

(ii) Repair or replacement of necessary seat components does not terminate the repetitive actions required in paragraph (g) of this AD.

Paperwork Reduction Act Burden Statement

(h) A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Alternative Methods of Compliance (AMOCs)

(i)(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved for AD 87-20-03 R2 are approved for this AD.

Related Information

(j) For more information about this AD, contact Gary Park, Aerospace Engineer, ACE-118W, Wichita Aircraft Certification Office (ACO), 1801 Airport Road, Room 100, Wichita, Kansas 67209; telephone: (316) 946-4123; fax: (316) 946-4107; e-mail: gary.park@faa.gov.

Issued in Kansas City, Missouri, on April 27, 2011.
John Colomy,
Acting Manager, Small Airplane Directorate, Aircraft Certification Service.

[FR Doc. 2011-10988 Filed 5-12-11; 8:45 am]

BILLING CODE 4910-13-P